DEPARTMENT OF COMMERCE

National Oceanic and Atmospheric Administration

50 CFR Part 679

[Docket No. 240227-0061; RTID 0648-XE563]

Fisheries of the Exclusive Economic Zone Off Alaska; Reallocation of Pacific Cod in the Central Regulatory Area of the Gulf of Alaska

AGENCY: National Marine Fisheries Service (NMFS), National Oceanic and Atmospheric Administration (NOAA), Commerce.

ACTION: Temporary rule; reallocation.

SUMMARY: NMFS is reallocating the projected unused amount of Pacific cod from catcher vessels using trawl gear to catcher vessels greater than or equal to 50 feet (ft) (15.2 meters (m)) length overall using hook-and-line gear and to catcher/processors using trawl gear in the Central Regulatory Area of the Gulf of Alaska (GOA). This action is necessary to allow the 2024 total allowable catch (TAC) of Pacific cod to be harvested.

DATES: Effective December 20, 2024, through 2400 hours, Alaska local time (A.l.t.), December 31, 2024.

FOR FURTHER INFORMATION CONTACT: Abby Jahn, 907-586-7228.

SUPPLEMENTARY INFORMATION: NMFS manages the groundfish fishery in the GOA according to the Fishery Management Plan for Groundfish of the Gulf of Alaska (FMP) prepared by the North Pacific Fishery Management Council under authority of the Magnuson-Stevens Fishery Conservation and Management Act (Magnuson-Stevens Act). Regulations governing fishing by U.S. vessels in accordance with the FMP appear at subpart H of 50 CFR parts 600 and 679.

The 2024 Pacific cod TAC specified for catcher vessels using trawl gear in the Central Regulatory Area of the GOA is 6,293 metric tons (mt), as established by the final 2024 and 2025 harvest specifications for groundfish in the GOA (89 FR 15484, March 4, 2024).

The 2024 Pacific cod TAC specified for catcher vessels greater than or equal to 50 feet (15.2 m) length overall using hook-and-line gear is 1,015 mt as established by the final 2024 and 2025 harvest specifications for groundfish in the GOA (89 FR 15484, March 4, 2024).

The 2024 Pacific cod TAC specified for catcher/processors using trawl gear is 635 mt as established by the final 2024 and 2025 harvest specifications for groundfish in the GOA (89 FR 15484, March 4, 2024). The final 2024 and 2025 harvest specifications also establishes a directed fishing closure for catcher/processors using trawl gear.

The Administrator, Alaska Region, NMFS has determined that catcher vessels using trawl gear will not be able to harvest 230 mt of the 2024 Pacific cod TAC allocated to those vessels under § 679.20(a)(12)(i)(B)(4).

Therefore, in accordance with § 679.20(a)(12)(ii)(B), NMFS apportions 100 mt of Pacific cod from catcher vessels using trawl gear to the annual amount specified for catcher vessels greater than or equal to 50 feet (15.2 m) length overall using hook-and-line gear and 130 mt of Pacific cod from catcher vessels using trawl gear to the annual amount specified for catcher/processors using trawl gear.

The harvest specifications for 2024 Pacific cod included in the final 2024 and 2025 harvest specifications for groundfish in the Central Regulatory Area of the GOA (89 FR 15484, March 4, 2024) is revised as follows: 6,063 mt to catcher vessels using trawl gear, 1,115 mt to catcher vessels greater than or equal to 50 feet (15.2 m) length overall using hook-and-line gear, and 765 mt to catcher/processors using trawl gear.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and would allow for harvests that exceed the originally specified apportionment of the Pacific cod TAC. NMFS was unable to publish a notice providing time for public comment because the most recent, relevant data only became available as of December 19, 2024.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: December 20, 2024.
Kelly Denit,
Director, Office of Sustainable Fisheries, National Marine Fisheries Service.

[FR Doc. 2024-30977 Filed 12-20-24; 4:15 pm]

BILLING CODE 3510-22-P